DEPARTMENT OF LABOR

Employment and Training Administration

[TA-W-56,993]

Springs Industries, Inc. Grace Complex, Including On-Site Leased Workers Of Phillips Staffing; Lancaster, SC; Amended Certification Regarding Eligibility to Apply for Worker Adjustment Assistance and Alternative Trade Adjustment Assistance

In accordance with Section 223 of the Trade Act of 1974 (19 U.S.C. 2273), and Section 246 of the Trade Act of 1974, as amended, the Department of Labor issued a Certification of Eligibility to Apply for Worker Adjustment Assistance and Alternative Trade Adjustment Assistance on May 2, 2005, applicable to workers of Springs Industries, Inc., Grace Complex, including on-site leased workers of Phillips Staffing, Lancaster, South Carolina. The notice will soon be published in the Federal Register.

At the request of the State agency, the Department reviewed the certification for workers of the subject firm. The workers produce finished bedding fabrics, sheets and pillowcases.

The review shows that all workers of Springs Industries, Inc., Grace Fabrication Plant, Lancaster, South Carolina, were certified eligible to apply for adjustment assistance and alternative trade adjustment assistance under petition number TA-W-52,788, which does not expire until October 7, 2005.

In order to avoid an overlap in worker group coverage, the Department is amending the certification for workers of the Grace Complex to clarify that any workers separated from the Grace Fabrication plant through October 7, 2005 are covered by TA-W-52,788. Thereafter (October 8, 2005 through May 2, 2007), any worker separated from the Fabrication Plant will be covered by the certification for workers of Springs Industries, Inc., Grace Complex, Lancaster, South Carolina, TA-W-56,993.

The amended notice applicable to TA-W-56,993 is hereby issued as follows:

“All workers of Springs Industries Inc., Grace Complex, Lancaster, South Carolina, including on-site leased workers of Phillips Staffing, who became totally or partially separated from employment on or after April 16, 2004 through May 2, 2007 (excluding for the period of May 2, 2005 through October 7, 2005, workers of Springs Industries Inc., Grace Fabrication Plant, Lancaster, South Carolina), are eligible to apply for adjustment assistance under Section 223 of the Trade Act of 1974, and are also eligible to apply for alternative trade adjustment assistance under section 246 of the Trade Act of 1974.”

Signed at Washington, DC, this 20th day of May 2005.
Linda G. Poole,
Certifying Officer, Division of Trade Adjustment Assistance.

[FR Doc. E5-2803 Filed 6-1-05; 8:45 am]

BILLING CODE 4510-30-P